FEDERAL COMMUNICATIONS COMMISSION

Public Information Collection(s) Requirement Submitted to OMB for Emergency Review and Approval

November 4, 2003.

SUMMARY: The Federal Communications Commission, as part of its continuing effort to reduce paperwork burden invites the general public and other Federal agencies to take this opportunity to comment on the following information collection(s), as required by the Paperwork Reduction Act of 1995, Pub. L. No. 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 12, 2003. If you anticipate that you will be submitting comments, but find it difficult to do so within the period of time allowed by this notice, you should advise the contacts listed below as soon as possible.

ADDRESSES: Direct all PRA comments to Kim A. Johnson, Office of Management and Budget, Room 10236 NEOB, Washington, DC 20503, (202) 395-7232, or via fax at 202-395-5167 or via Internet at Kim_A._Johnson@omb.eop.gov, and Judith B. Herman, Federal Communications Commission, Room 1-C804, 445 12th Street, SW., Washington, DC 20554 or via Internet to Judith-B.Herman@fcc.gov.

FOR FURTHER INFORMATION CONTACT: For additional information or copies of the information collections contact Judith B. Herman at (202) 418-0214 or via Internet at Judith-B.Herman@fcc.gov.

SUPPLEMENTARY INFORMATION: The Commission has requested emergency OMB processing review of this new information collection with an OMB approval by November 14, 2003.

OMB Control Number: 3060-XXXX.

Title: Implementation of the Pay Telephone Reclassification and Compensation Provisions of the Telecommunications Act of 1996, CC Docket No. 96-128, Report and Order and Second Order on Reconsideration.

Form No.: N/A.

Type of Review: New collection.

Respondents: Business or other for-profit.

Number of Respondents: 1,023 respondents; 7,140 responses.

Estimated Time Per Response: 100 hours.

Frequency of Response: Quarterly reporting requirement and third party disclosure requirement.

Total Annual Burden: 1,323,600 hours.

Total Annual Cost: N/A.

Needs and Uses: In CC Docket No. 96-128, the Commission promulgated rules and requirements under Section 276 of the Act that every payphone service provider be fairly compensated for every completed payphone call made from one of their payphones. The rules require: (1) Each Switch-Based Reseller (SBR) to establish and maintain an accurate tracking system, and have that system audited for accuracy by a third party auditor; (2) require SBR's to provide quarterly reports to each PSP containing compensation with supporting data; and (3) require each facilities-based long distance carrier (Intermediate Carrier) that switches payphone calls to other facilities-based long distance carriers to provide each PSP with quarterly reports that include a list of all the facilities-based long distance carriers to which the Intermediate Carrier switched toll-free and access code calls dialed from each of that payphone service provider's payphones.

Federal Communications Commission.
Marlene H. Dortch,
Secretary.

[FR Doc. 03-28378 Filed 11-12-03; 8:45 am]

BILLING CODE 6712-01-P